DEPARTMENT OF TRANSPORTATION

Federal Aviation Administration

14 CFR Part 39

[Docket No. FAA-2016-7003; Directorate Identifier 2016-CE-015-AD; Amendment 39-18766; AD 2016-26-08]

RIN 2120-AA64

Airworthiness Directives; PILATUS AIRCRAFT LTD. Airplanes

AGENCY: Federal Aviation Administration (FAA), Department of Transportation (DOT).

ACTION: Final rule.

SUMMARY: We are superseding Airworthiness Directive (AD) 2014-22-01 for all PILATUS AIRCRAFT LTD. Models PC-12, PC-12/45, PC-12/47, and PC-12/47E airplanes. This AD results from mandatory continuing airworthiness information (MCAI) issued by an aviation authority of another country to identify and correct an unsafe condition on an aviation product. The MCAI describes the unsafe condition as a need to incorporate new revisions into the Limitations section, Chapter 4, of the FAA-approved maintenance program (e.g., maintenance manual). The limitations were revised to include repetitive inspections of the main landing gear (MLG) attachment bolts. We are issuing this AD to require actions to address the unsafe condition on these products.

DATES: This AD is effective February 9, 2017.

The Director of the Federal Register approved the incorporation by reference of certain publications listed in the AD as of February 9, 2017.

ADDRESSES: You may examine the AD docket on the Internet at http://www.regulations.gov by searching for and locating Docket No. FAA-2016-7003; or in person at the Docket Management Facility, U.S. Department of Transportation, Docket Operations, M-30, West Building Ground Floor, Room W12-140, 1200 New Jersey Avenue SE., Washington, DC 20590.

For service information identified in this AD, contact PILATUS AIRCRAFT LTD., Customer Service Manager, CH-6371 STANS, Switzerland; telephone: +41 (0) 41 619 33 33; fax: +41 (0) 41 619 73 11; Internet: http://www.pilatus-aircraft.com or email: SupportPC12@pilatus-aircraft.com. You may view this referenced service information at the FAA, Small Airplane Directorate, 901 Locust, Kansas City, Missouri 64106. For information on the availability of this material at the FAA, call (816) 329-4148. It is also available on the Internet at http://www.regulations.gov by searching for Docket No. FAA-2016-7003.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Discussion

We issued a supplemental notice of proposed rulemaking (SNPRM) to amend 14 CFR part 39 by adding an AD that would apply to all PILATUS AIRCRAFT LTD. Models PC-12, PC-12/45, PC-12/47, and PC-12/47E airplanes. That SNPRM was published in the Federal Register on August 31, 2016 (81 FR 59919), and proposed to supersede AD 2014-22-01, Amendment 39-18005 (79 FR 67343, November 13, 2014).

The SNPRM proposed to correct an unsafe condition for the specified products and was based on mandatory continuing airworthiness information (MCAI) originated by an aviation authority of another country. The MCAI states:

The airworthiness limitations are currently defined and published in the Pilatus PC-12 Aircraft Maintenance Manual(s) (AMM) under Chapter 4, Structural, Component and Miscellaneous—Airworthiness Limitations Section (ALS) documents. The limitations contained in these documents have been identified as mandatory for continued airworthiness.

Failure to comply with these instructions could result in an unsafe condition.

EASA issued AD 2014-0170 requiring the actions as specified in ALS, Chapter 4 of AMM report 02049 issue 28, for PC-12, PC-12/45 and PC-12/47 aeroplanes, and Chapter 4 of AMM report 02300 issue 11, for PC-12/47E aeroplanes.

Since that AD was issued, Pilatus issued Chapter 4 of PC-12 AMM report 02049 issue 31, and Chapter 4 of PC-12 AMM report 02300 issue 14 (hereafter collectively referred to as `the applicable ALS' in this AD), to incorporate new six-year and ten-year inspection intervals for several main landing gear (MLG) attachment bolts, and an annual inspection interval for the MLG shock absorber attachment bolts, which was previously included in the AMM Chapter 5 annual inspection. After a further review of the in-service data, Pilatus issued Service Letter (SL) 186, extending the special compliance time applicable for the MLG bolts inspection.

For the reasons described above, this AD retains the requirements of EASA AD 2014-0170, which is superseded, and requires the accomplishment of the new maintenance tasks, as described in the applicable ALS.

The MCAI can be found in the AD docket on the Internet at https://www.regulations.gov/document?D=FAA-2016-7003-0002.

Comments

We gave the public the opportunity to participate in developing this AD. The following presents the comments received on the proposal and the FAA's response to each comment.

Request To Incorporate Requirements of the New Revisions to the Limitations Section of the FAA-Approved Maintenance Program Into This AD

Fernando Campos of KACALP Flight Operations requested that the requirements of the new revisions to the Limitations section of the FAA-approved maintenance program (e.g., maintenance manual) be written into the AD instead of requiring operators to insert these new revisions into the Limitations section of the FAA-approved maintenance program (e.g., maintenance manual).

The commenter stated that most operators do not own a maintenance library subscription (hardcopy of the maintenance manual) from PILATUS AIRCRAFT LTD. (Pilatus). Therefore, it would be impossible to comply with paragraph (f)(1) of the proposed AD.

The commenter also stated that Pilatus PC-12 airplane operators are not subject to 14 CFR 91.409(e) and/or 14 CFR 91.409(f)(3) “Inspection Program” and operators can maintain their airplane in accordance with the operating rules of 14 CFR 91.409(a) and 14 CFR 91.409(b) only.

We do not agree with the commenter. Although some operators may or may not own a current hardcopy subscription of the Pilatus PC-12 maintenance library (e.g., maintenance manual), 14 CFR 21.50 requires that a complete set of instructions for continued airworthiness (ICA) be delivered with the airplane. Therefore, it is possible for an operator to comply with paragraph (f)(1) of this AD using the set of ICA delivered with the airplane. Pilatus PC-12 airplanes are bound by 14 CFR 91.409(a) and 14 CFR 91.409(b) if operated for hire. An option for 14 CFR 135 operators, if they desire to use an “Approved Aircraft Inspection Program” is 14 CFR 91.409(c). An option for using a “Progressive Inspection” is 14 CFR 91.409(d), and the Pilatus PC-12 ICA has such a program already in it. Operators of a Pilatus PC-12 airplane are not normally subject to 14 CFR 91.409(e) or 14 CFR 91.409(f)(3); however, if an exemption to 14 CFR 91.409(e) is granted to an operator, then 14 CFR 409(f)(3) is an option as well. Incorporating the limitation requirements into the AD could potentially cause confusion and/or unintended new unsafe conditions if there were any inadvertent changes when rewriting the limitations into this AD. In addition, this deviates from the method utilized by the foreign airworthiness authority in the MCAI and could cause confusion with future rulemaking.

We have not changed the AD based on this comment.

Request To Allow All A&P Mechanics To Do the Supplemental Structural Inspection Document (SSID) Program

Fernando Campos of KACALP Flight Operations requested that the AD be revised to allow all A&P mechanics to do the SSID program.

The commenter stated that paragraph (f)(3) of the proposed AD states that “only authorized Pilatus Service Centers can do the SSID.” The commenter stated that this is illegal and contrary to U.S. antitrust laws. Properly certificated repair stations and A&P mechanics cannot be prevented from engaging in aircraft commerce, especially if they have the appropriate ratings from the FAA under 14 CFR parts 65 and 145.

The FAA does not agree with the commenter that the requirements in this AD are illegal and contrary to U.S. antitrust laws. There is little margin for error on the safety risk presented in the SSID. Although the FAA believes that the requirement to use only Pilatus services centers appropriately addresses this risk, we will also consider an alternative method of compliance (AMOC), as stated in the AD. The FAA can issue an AMOC that allows properly certified mechanics to do the actions in the SSID, providing we believe the additional risk presented in the SSID is appropriately addressed. For such an AMOC, you should contact the FAA at the contact specified in paragraph (g)(1) of this AD.

We have not changed this AD based on this comment at this time, although we will consider AMOCs as indicated above.

Request Compliance Credit for Using Electronic Versus Hardcopy Maintenance Manual

Fernando Campos of KACALP Flight Operations requested compliance be allowed for operators who subscribe to the Pilatus maintenance library electronically (instead of hardcopy).

We agree with the commenter. Although we have to account for the actual paper document due to the fact that we have to incorporate by reference the documents referenced in this AD and make it part of the regulation, we understand the concerns. We added language to this AD stating that compliance with the electronic version of the Limitations sections to the FAA-approved maintenance program (e.g., maintenance manual) is acceptable provided the specifically referenced section is followed even though there may be differences with the pagination.

We have changed this AD based on this comment.

Conclusion

We reviewed the relevant data, considered the comments received, and determined that air safety and the public interest require adopting the AD with the change described previously and minor editorial changes. We have determined that these minor changes:

• Are consistent with the intent that was proposed in the SNPRM for correcting the unsafe condition; and

• Do not add any additional burden upon the public than was already proposed in the SNPRM.

Related Service Information

PILATUS AIRCRAFT LTD. has issued Structural, Component and Miscellaneous—Airworthiness Limitations, document 12-A-04-00-00-00A-000A-A, dated July 12, 2016, and Structural and Component Limitations—Airworthiness Limitations, document 12-B-04-00-00-00A-000A-A, dated July 19, 2016. This service information is reasonably available because the interested parties have access to it through their normal course of business or by the means identified in the ADDRESSES section of the AD.

Costs of Compliance

We estimate that this AD will affect 770 products of U.S. registry. We also estimate that it will take about 1.5 work-hours per product to comply with the basic requirements of this AD. The average labor rate is $85 per work-hour. Based on these figures, we estimate the cost of this AD on U.S. operators to be $98,175, or $127.50 per product. This breaks down as follows:

• Incorporating new revisions into the Limitations section, Chapter 4, of the FAA-approved maintenance program (e.g., maintenance manual): .5 work-hour for a fleet cost of $32,725, or $42.50 per product.

• New inspections of the MLG attachment bolts: 1 work-hour with no parts cost for fleet cost of $65,450 or $85 per product.

In addition, we estimate that any necessary corrective actions (on-condition costs) that must be taken based on the inspections will take about 1 work-hour and require parts costing approximately $100 for a cost of $185 per product. We have no way of determining the number of products that may need these necessary corrective actions.

The only costs that will be imposed by this AD over that already required by AD 2014-22-01 is the costs associated with the insertion of the revised Limitation section and the MLG attachment bolts inspection and replacement as necessary.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2016-7003; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing 39-18005 (79 FR 67343, November 13, 2014) and adding the following new AD:

2016-26-08 PILATUS AIRCRAFT LTD.: Amendment 39-18766; Docket No. FAA-2016-7003; Directorate Identifier 2016-CE-015-AD.

(a) Effective Date

This airworthiness directive (AD) becomes effective February 9, 2017.

(b) Affected ADs

This AD replaces AD 2014-22-01, 39-18005 (79 FR 67343, November 13, 2014).

(c) Applicability

This AD applies to PILATUS AIRCRAFT LTD. Models PC-12, PC-12/45, PC-12/47, and PC-12/47E airplanes, all manufacturer serial numbers (MSNs), certificated in any category.

(d) Subject

Air Transport Association of America (ATA) Code 5: Time Limits.

(e) Reason

This AD was prompted by mandatory continuing airworthiness information (MCAI) originated by an aviation authority of another country to identify and correct an unsafe condition on an aviation product. The MCAI describes the unsafe condition as a need to incorporate new revisions into the Limitations section, Chapter 4, of the FAA-approved maintenance program (e.g., maintenance manual). The limitations were revised to include repetitive inspections of the main landing gear (MLG) attachment bolts. These actions are required to ensure the continued operational safety of the affected airplanes.

(f) Actions and Compliance

Unless already done, do the actions in paragraphs (f)(1) through (6) of this AD:

(1) Before further flight after February 9, 2017 (the effective date of this AD), insert the following revisions into the Limitations section of the FAA-approved maintenance program (e.g., maintenance manual). Compliance with an electronic version of the Limitations section is acceptable provided the specifically referenced sections are followed even though there may be differences with the pagination:

(i) STRUCTURAL, COMPONENT AND MISCELLANEOUS—AIRWORTHINESS LIMITATIONS, Data module code 12-A-04-00-00-00A-000A-A, dated July 12, 2016, of the Pilatus Model type—PC-12, PC-12/45, PC-12/47 MSN-101-888, Aircraft Maintenance Manual (AMM), Document No. 02049, 12-A-AM-00-00-00-I, revision 32, dated July 18, 2016; and

(ii) STRUCTURAL AND COMPONENT LIMITATIONS—AIRWORTHINESS LIMITATIONS, Data module code 12-B-04-00-00-00A-000A-A, dated July 19, 2016, of the Pilatus Model type—PC-12/47E MSN-1001-UP, Aircraft Maintenance Manual (AMM), Document No. 02300, 12-B-AM-00-00-00-I, revision 15, dated July 30, 2016.

(2) The new limitations section revisions listed in paragraphs (f)(1)(i) and (ii) of this AD specify the following:

(i) Establish inspections of the MLG attachment bolts,

(ii) Specify replacement of components before or upon reaching the applicable life limit, and

(iii) Specify accomplishment of all applicable maintenance tasks within certain thresholds and intervals.

(3) Only authorized Pilatus Service Centers can do the Supplemental Structural Inspection Document (SSID) as required by the documents in paragraphs (f)(1)(i) and (ii) of this AD because deviations from the type design in critical locations could make the airplane ineligible for this life extension.

(4) If no compliance time is specified in the documents listed in paragraphs (f)(1)(i) and (ii) of this AD when doing any corrective actions where discrepancies are found as required in paragraph (f)(2)(iii) of this AD, do these corrective actions before further flight after doing the applicable maintenance task.

(5) During the accomplishment of the actions required in paragraph (f)(2) of this AD, including all subparagraphs, if a discrepancy is found that is not identified in the documents listed in paragraphs (f)(1)(i) and (ii) of this AD, before further flight after finding the discrepancy, contact PILATUS AIRCRAFT LTD. at the address specified in paragraph (h) of this AD for a repair scheme and incorporate that repair scheme.

(6) Before or upon accumulating 6 years time-in-service (TIS) on the MLG attachment bolts or within the next 3 months TIS after February 9, 2017 (the effective date of this AD), whichever occurs later, inspect the MLB attachment bolts for cracks and corrosion and before further flight take all necessary corrective actions.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov.

(i) Before using any approved AMOC on any airplane to which the AMOC applies, notify your appropriate principal inspector (PI) in the FAA Flight Standards District Office (FSDO), or lacking a PI, your local FSDO.

(ii) AMOCs approved for AD 2014-22-01, 39-18005 (79 FR 67343, November 13, 2014) are not approved as AMOCs for this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No. 2016-0083, dated April 28, 2016, for related information. You may examine the MCAI on the Internet at https://www.regulations.gov/document?D=FAA-2016-7003-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) STRUCTURAL, COMPONENT AND MISCELLANEOUS—AIRWORTHINESS LIMITATIONS, Data module code 12-A-04-00-00-00A-000A-A, dated July 12, 2016, of the Pilatus Model type—PC-12, PC-12/45, PC-12/47 MSN-101-888, Aircraft Maintenance Manual (AMM), Document No. 02049, 12-A-AM-00-00-00-I, revision 32, dated July 18, 2016.

(ii) STRUCTURAL AND COMPONENT LIMITATIONS—AIRWORTHINESS LIMITATIONS, Data module code 12-B-04-00-00-00A-000A-A, dated July 19, 2016, of the Pilatus Model type—PC-12/47E MSN-1001-UP, Aircraft Maintenance Manual (AMM), Document No. 02300, 12-B-AM-00-00-00-I, revision 15, dated July 30, 2016.

(3) For PILATUS AIRCRAFT LTD. service information identified in this AD, contact PILATUS AIRCRAFT LTD., Customer Service Manager, CH-6371 STANS, Switzerland; telephone: +41 (0) 41 619 33 33; fax: +41 (0) 41 619 73 11; Internet: http://www.pilatus-aircraft.com or email: SupportPC12@pilatus-aircraft.com.

(4) You may view this service information at FAA, FAA, Small Airplane Directorate, 901 Locust, Kansas City, Missouri 64106. For information on the availability of this material at the FAA, call (816) 329-4148. In addition, you can access this service information on the Internet at http://www.regulations.gov by searching for and locating Docket No. FAA-2016-7003.

(5) You may view this service information that is incorporated by reference at the National Archives and Records Administration (NARA). For information on the availability of this material at NARA, call 202-741-6030, or go to: http://www.archives.gov/federal-register/cfr/ibr-locations.html.

Issued in Kansas City, Missouri, on December 21, 2016.
Melvin Johnson,
Acting Manager, Small Airplane Directorate, Aircraft Certification Service.

[FR Doc. 2016-31600 Filed 1-4-17; 8:45 am]

BILLING CODE 4910-13-P